DEPARTMENT OF HEALTH AND HUMAN SERVICES

Agency for Healthcare Research and Quality; Notice of Meetings

In accordance with section 10(d) of the Federal Advisory Committee Act (5 U.S.C., Appendix 2), announcement is made of a Health Care Policy and Research Special Emphasis Panel (SEP) meetings.

A Special Emphasis is a group of experts in fields related to health care research who are invited by the Agency for Healthcare Research and Quality (AHRQ), and agree to be available, to conduct on an as needed basis, scientific reviews of applications for AHRQ support. Individual members of the Panel do not attend regularly-scheduled meetings and do not serve for fixed terms or a long period of time. Rather, they are asked to participate in particular review meetings which require their type of expertise.

Substantial segments of the upcoming SEP meetings listed below will be closed to the public in accordance with the Federal Advisory Committee Act, section 10(d) of 5 U.S.C., Appendix 2 and 5 U.S.C. 552b(c)(6). Grant applications are to be reviewed and discussed at these meetings. These discussions are likely to reveal personal information concerning individuals associated with the applications. This information is exempt from mandatory disclosure under the above-cited statutes.

1. SEP Meeting on: Limited Competition for AHRQ Research Infrastructure and Capacity Program: Phase II (BRIC).

Date: August 18, 2003 (open on August 18 from 8 a.m. to 8:15 a.m. and closed for the remainder of the meeting).

Place: Quality Suites and Conference Center, 3 Research Court, Rockville, MD 20850.

2. SEP Meeting on: Coordinating Center for the AHRQ Centers for Education and Research on Therapeutics Program and Limited Competition for AHRQ Centers for Education and Research on Therapeutics Program (CERTS).

Date: August 29, 2003 (open on August 29 from 8 a.m. to 8:15 a.m. and closed for the remainder of the meeting).

Place: Quality Suites and Conference Center, 3 Research Court, Rockville, MD 20850.

3. SEP Meeting on: Building the Evidence to Promote Bioterrorism and Other Public Health Emergency Preparedness in Health Care Systems.

Date: September 4-5, 2003 (open on September 4 from 8 a.m. to 8:15 a.m. and closed for the remainder of the meeting).

Place: Quality Suites and Conference Center, 3 Research Court, Rockville, MD 20850.

4. SEP Meeting on: Safe Practices Implementation Challenge Grants.

Date: September 4-5, 2003 (open on September 4 from 8 a.m. to 8:15 a.m. and closed for the remainder of the meeting).

Place: Quality Suites and Conference Center, 3 Research Court, Rockville, MD 20850.

5. SEP Meeting on: Small Research Grants for Primary Care Practice-Based Research Networks (PBRNs).

Date: September 11-12, 2003 (open on September 4 from 8 a.m. to 8:15 a.m. and closed for the remainder of the meeting).

Place: Quality Suites and Conference Center, 3 Research Court, Rockville, MD 20850.

Contact Person: Anyone wishing to obtain a roster of members, agenda or minutes of the nonconfidential portions of these meetings should contact Mrs. Bonnie Campbell, Committee Management Officer, Office of Extramural Research, Education, and Priority Populations, AHRQ, 540 Gaither Road, Room 2038, Rockville, Maryland 20850, Telephone (301) 427-1554.

Agenda items for these meetings are subject to change as priorities dictate.

Dated: July 24, 2003.
Carolyn M. Clancy,
Director.

[FR Doc. 03-19463 Filed 7-30-03; 8:45 am]

BILLING CODE 4160-90-M